DEPARTMENT OF THE INTERIOR

National Park Service

[NPS-WASO-NAGPRA-NPS0022623;PPWOCRADN0-PCU00RP14.R50000]

Notice of Intent To Repatriate Cultural Items: Arizona State Museum, University of Arizona, Tucson, AZ

AGENCY: National Park Service, Interior.

ACTION: Notice.

SUMMARY: The Arizona State Museum, University of Arizona, in consultation with the appropriate Indian tribes or Native Hawaiian organizations, has determined that the cultural items listed in this notice meet the definition of objects of cultural patrimony. Lineal descendants or representatives of any Indian tribe or Native Hawaiian organization not identified in this notice that wish to claim these cultural items should submit a written request to the Arizona State Museum, University of Arizona. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Arizona State Museum, University of Arizona at the address in this notice by February 13, 2017.

ADDRESSES: John McClelland, NAGPRA Coordinator, P.O. Box 210026, Arizona State Museum, University of Arizona, Tucson, AZ 85721, telephone (520) 626-2950.

SUPPLEMENTARY INFORMATION: Notice is here given in accordance with the Native American Graves Protection and Repatriation Act (NAGPRA), 25 U.S.C. 3005, of the intent to repatriate cultural items under the control of the Arizona State Museum, University of Arizona, Tucson, AZ, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In April 1939, one cultural item was removed from the Tohono O'odham Reservation in the village of Sil Nakya, AZ. The one object of cultural patrimony is a calendar stick. Mr. and Mrs. Wetmore Hodges purchased the calendar stick (E-151) from José Maria, the keeper of the stick and subsequently donated it to the Arizona State Museum.

In the 1960s, one cultural item was removed from the Tohono O'odham Reservation near the village of Santa Rosa, AZ. The one object of cultural patrimony is a calendar stick. Mr. Donald Bahr was given the calendar stick (E-7310) by an unknown Tohono O'odham man, at an abandoned village near Santa Rosa on the Tohono O'odham Reservation. In 1967, Mr. Bahr donated the calendar stick to the Arizona State Museum.

Calendar sticks carried a record of social and natural events, which were read only by the carver. These sticks were mnemonic devices with carved notches to represent a year, and dots and other symbols to represent events during the year, as reported by ethnographers. The distances between each notch represent a year, which is from summer to summer or saguaro harvest to saguaro harvest. The notches and cuts represent various happenings but only the keepers of the sticks can read the symbols. The stick is worthless unless the keeper can translate it or has given information to someone. Mr. Maria translated the events recorded on the Sil Nakya calendar stick, which cover the years 1841-1939.

While some ethnographic accounts suggested that calendar sticks were considered to be private property, a newspaper account of the sale of the Sil Nakya stick reported that there was considerable community opposition to the sale. Based on interviews with a Tohono O'odham Elder from Sil Nakya who participated in calendar stick activities as a young boy in the late 1930s, it seems clear that Tohono O'odham in Sil Nakya regarded the calendar stick as an item that could not be alienated. While they were taken care of by an individual, the stick belonged to the community. The Elder described the time of year when people in the community would gather for a large social event, attended by members of surrounding villages. Men of the communities would gather to meet with the calendar stick keeper and discuss what entry would be carved onto the calendar stick for the year. This event was attended only by men; women were excluded. Some debate would take place before a consensus decision was made as to what event of the past year would be carved on the calendar stick for the year. From conversations with this Elder, it seems clear that the calendar stick belonged to the major village community where the keeper lived, but also retained importance for the surrounding villages. A preponderance of the evidence indicates that at the time of the purchase, this item was considered to be a community resource rather than an object owned by an individual. Because the calendar stick records significant events in the history of the Tohono O'odham Nation and the community determined by consensus what was to be recorded, the item has historical and traditional cultural importance central to the tribe.

Determinations Made by the Arizona State Museum, University of Arizona

Officials of the Arizona State Museum have determined that:

• Pursuant to 25 U.S.C. 3001(3)(D), the 2 cultural items described above have ongoing historical, traditional, or cultural importance central to the Native American group or culture itself, rather than property owned by an individual.

• Pursuant to 25 U.S.C. 3001(2), there is a relationship of shared group identity that can be reasonably traced between the objects of cultural patrimony and the Tohono O'odham Nation of Arizona.

Additional Requestors and Disposition

Lineal descendants or representatives of any Indian tribe or Native Hawaiian organization not identified in this notice that wish to claim these cultural items should submit a written request with information in support of the claim to John McClelland, NAGPRA Coordinator, P.O. Box 210026, Arizona State Museum, University of Arizona, Tucson, AZ 85721, telephone (520) 626-2950, by February 13, 2017. After that date, if no additional claimants have come forward, transfer of control of the objects of cultural patrimony to Tohono O'odham Nation of Arizona may proceed.

The Arizona State Museum is responsible for notifying the Tohono O'odham Nation of Arizona that this notice has been published.

Dated: December 20, 2016.
Melanie O'Brien,
Manager, National NAGPRA Program.

[FR Doc. 2017-00510 Filed 1-11-17; 8:45 am]

BILLING CODE 4312-52-P